NUCLEAR REGULATORY COMMISSION

[Docket No. 72-11; NRC-2018-0147]

Sacramento Municipal Utility District; Rancho Seco Independent Spent Fuel Storage Installation

AGENCY: Nuclear Regulatory Commission.

ACTION: License renewal; issuance.

SUMMARY: The U.S. Nuclear Regulatory Commission (NRC) has issued a renewed license to the Sacramento Municipal Utility District for Special Nuclear Materials (SNM) License No. SNM-2510 for the receipt, possession, transfer, and storage of radioactive material from the Rancho Seco Nuclear Generating Station in the Rancho Seco independent spent fuel storage installation (ISFSI). The Rancho Seco ISFSI is located on the Rancho Seco site, in Sacramento County, California. The renewed license authorizes operation of the Rancho Seco ISFSI in accordance with the provisions of the renewed license and its technical specifications. The renewed license expires on June 30, 2060.

DATES: The license referenced in this document is available as of March 9, 2020.

ADDRESSES: Please refer to Docket ID NRC-2018-0147 when contacting the NRC about the availability of information regarding this document. You may obtain publicly-available information related to this document using any of the following methods:

• Federal Rulemaking website: Go to https://www.regulations.gov and search for Docket ID NRC-2018-0147. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Kristina Banovac, Office of Nuclear Material Safety and Safeguards, U.S. Nuclear Regulatory Commission, Washington, DC 20555-0001; telephone: 301-415-7116, email: Kristina.Banovac@nrc.gov.

SUPPLEMENTARY INFORMATION:

I. Discussion

Based upon the application dated March 19, 2018, as supplemented June 25, 2018, August 6, 2018, September 26, 2018, April 22, 2019, June 26, 2019, July 12, 2019, and January 23, 2020, the NRC has issued a renewed license to the licensee for the Rancho Seco ISFSI, located in Sacramento County, California. The renewed license SNM-2510 authorizes and requires operation of the Rancho Seco ISFSI in accordance with the provisions of the renewed license and its technical specifications. The renewed license will expire on June 30, 2060.

The licensee's application for a renewed license complies with the standards and requirements of the Atomic Energy Act of 1954, as amended (the Act), and the NRC's rules and regulations. The NRC has made appropriate findings as required by the Act and the NRC's regulations in chapter 1 of title 10 of the Code of Federal Regulations (10 CFR), and sets forth those findings in the renewed license. The agency afforded an opportunity for a hearing in the Notice of Opportunity for a Hearing published in the Federal Register on August 22, 2018 (83 FR 42527). The NRC received no request for a hearing or petition for leave to intervene following the notice.

The NRC staff prepared a safety evaluation report for the renewal of the ISFSI license and concluded, based on that evaluation, the ISFSI will continue to meet the regulations in 10 CFR part 72. The NRC staff also prepared an environmental assessment and finding of no significant impact for the renewal of this license, which were published in the Federal Register on March 6, 2020 (85 FR 13191, Docket ID NRC-2019-0148). The NRC staff's consideration of the impacts of continued storage of spent nuclear fuel (as documented in NUREG-2157, “Generic Environmental Impact Statement for Continued Storage of Spent Fuel”) was included in the environmental assessment. The NRC staff concluded that renewal of this ISFSI license will not have a significant impact on the quality of the human environment.

II. Availability of Documents

The following table includes the ADAMS Accession Numbers for the documents referenced in this notice. For additional information on accessing ADAMS, see the ADDRESSES section of this document.

Document | ADAMS accession No.
Licensee's Renewal Application, dated March 19, 2018 | ML18101A026
Response to Request for Supplemental Information, dated June 25, 2018 | ML18179A255
Replacement Files (for March 19, 2018, submittal), dated August 6, 2018 | ML18221A283
Replacement Revision 1 Files (for June 25, 2018 submittal), dated August 6, 2018 | ML18221A293
Response to Request for Information, dated September 26, 2018 | ML18285A414
Response to Request for Additional Information, dated April 22, 2019 | ML19121A269
Replacement Files for the Response to Request for Additional Information, dated June 26, 2019 | ML19184A179
Response to Request for Clarification of Response to Request for Additional Information, dated July 12, 2019 | ML19204A239
Request for Minor Editorial and Clarification Revisions, dated January 23, 2020 | ML20038A131
Special Nuclear Materials License No. SNM-2508 | ML20065N281, ML20065N282
SNM-2508 Technical Specifications | ML20065N285
NRC Safety Evaluation Report | ML20065N280
NRC Environmental Assessment | ML19241A378
NUREG-2157, “Generic Environmental Impact Statement for Continued Storage of Spent Fuel” Vol. 1 | ML14196A105
NUREG-2157, “Generic Environmental Impact Statement for Continued Storage of Spent Fuel” Vol. 2 | ML14196A107

Dated at Rockville, Maryland, this 11th day of March, 2020.
For the Nuclear Regulatory Commission.
John B. McKirgan,
Chief, Storage and Transportation Licensing Branch, Division of Fuel Management, Office of Nuclear Material Safety and Safeguards.

[FR Doc. 2020-05323 Filed 3-13-20; 8:45 am]

BILLING CODE 7590-01-P